NATIONAL AERONAUTICS AND SPACE ADMINISTRATION

[Notice 05-001]

NASA Earth Science and Applications From Space Strategic Roadmap Committee; Meeting

AGENCY: National Aeronautics and Space Administration (NASA).

ACTION: Notice of meeting.

SUMMARY: In accordance with the Federal Advisory Committee Act, Public Law 92-463, as amended, the National Aeronautics and Space Administration announces a forthcoming meeting of the NASA Earth Science and Applications from Space Strategic Roadmap Committee.

DATES: Wednesday, January 26, 2005, 8 a.m. to 5 p.m.; and Thursday, January 27, 2005, 8 a.m. to 5 p.m., Pacific standard time.

ADDRESSES: Scripps Institution of Oceanography, 8620 Discovery Way, La Jolla, CA 92037-0210.

—The meeting room number will be posted at the Director's Office at the Scripps Institution of Oceanography, UC San Diego. Directions to the Director's Office can be found at http://www.sio.ucsd.edu/about/directory/map_of.cfm, or call the Director's Office at (858) 534-2827.

—Directions and parking information are available through the Scripps Institution Web page at URL http://sio.ucsd.edu/.

FOR FURTHER INFORMATION CONTACT: Gordon Johnston, Science Mission Directorate, National Aeronautics and Space Administration, Washington, DC 20546 at (202) 358-4685.

SUPPLEMENTARY INFORMATION: The meeting will be open to the public up to the capacity of the room. Attendees will be requested to sign a register.

The agenda for the meeting includes the following topics:

Challenges and opportunities in Earth science and applications from space.

Vision of the future for Earth science and applications from space.

Critical issues and objectives for Earth science and applications from space.

It is imperative that the meeting be held on this date to accommodate the scheduling priorities of the key participants.

Dated: December 29, 2004.
P. Diane Rausch,
Advisory Committee Management Officer, National Aeronautics and Space Administration.

[FR Doc. 05-368 Filed 1-6-05; 8:45 am]

BILLING CODE 7510-13-P